DEPARTMENT OF DEFENSE

Office of the Secretary

[Transmittal No. 23-0E]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 23-0E.

Dated: August 23, 2024.
Aaron T. Siegel,
Alternate OSD Federal Register Liaison Officer, Department of Defense.

BILLING CODE 6001-FR-P

BILLING CODE 6001-FR-C

Transmittal No. 23-0E

REPORT OF ENHANCEMENT OR UPGRADE OF SENSITIVITY OF TECHNOLOGY OR CAPABILITY (SEC. 36(B)(5)(C), AECA)

(i) Purchaser: Government of Finland

(ii) Sec. 36(b)(1), AECA Transmittal No.: 17-77

Date: February 5, 2018

Military Department: Navy

(iii) Description: On February 5, 2018, Congress was notified by Congressional certification transmittal number 17-77 of the possible sale, under Section 36(b)(1) of the Arms Export Control Act, of sixty-eight (68) Evolved SEASPARROW Missiles (ESSM) and one (1) ESSM inert operational missile. Also included were seventeen (17) MK25 quad pack canisters, eight (8) MK783 shipping containers, spare and repair parts, support and test equipment, publications and technical documentation, training, U.S. Government/Contractor engineering, technical and logistics support services and technical assistance, and other related elements of logistical support. The estimated total cost was $112.7 million. Major Defense Equipment (MDE) constituted $92.6 million of this total.

This transmittal notifies the inclusion of the following MDE items: eighty-four (84) RIM-162J Evolved SEASPARROW Missiles (ESSM), Block 2; to replace the previously notified sixty-eight (68) ESSMs. Also included are MK25 quad pack canisters and MK852 shipping containers. The addition of these items will result in a net increase in MDE value of $81.4 million, resulting in a revised MDE value of $174 million. The non-MDE estimated value will increase from $20.1 million to $28.9 million. The total estimated case value will increase by $90.2 million to $202.9 million.

(iv) Significance: The inclusion of this MDE represents an increase in capability over the Block 1 ESSMs previously notified. Finland intends to use the missiles on its new Squadron 2020 class Corvette ships. The missiles will provide enhanced capabilities in effective defense of critical sea lanes and improve Finland's capability to meet current and future enemy anti-ship weapon threats. Finland previously requested ESSM Block 1s, but cancelled the procurement to await the Block 2s.

(v) Justification: This proposed sale will support the foreign policy and national security of the United States by improving the security of a trusted partner which is an important force for political stability and economic progress in Europe. It is vital to the U.S. national interest to assist Finland in developing and maintaining a strong and ready self-defense capability.

(vi) Sensitivity of Technology: The RIM-162J ESSM Block 2 is an upgrade to the Block 1, which is a kinematic upgrade to the RIM-7P SEASPARROW Missile that leverages U.S. guidance technology. ESSM Block 1 is a medium-range, semi-active homing missile that makes flight corrections via radar and midcourse data uplinks. The guidance system is semi-active on continuous wave or interrupted continuous wave illumination. The missile provides reliable ship self-defense capability against agile, high-speed, low-altitude anti-ship cruise missiles (ASCMs) and low velocity air threats (LVATs) such as helicopters and high-speed, maneuverable surface threats. The ESSM Block 2 utilizes the same propulsion section and increases the diameter of the guidance section to 10-inches. The new guidance section utilizes a dual seeker head that employs semi-active and active guidance.

The highest level of classification of defense articles, components, and services included in this potential sale is SECRET.

(vii) Date Report Delivered to Congress: February 27, 2023

[FR Doc. 2024-19354 Filed 8-27-24; 8:45 am]

BILLING CODE 6001-FR-P